DEPARTMENT OF THE INTERIOR

Bureau of Reclamation

[FES 00-20]

Woodbridge Irrigation District and City of Lodi's Lower Mokelumne River Restoration Program, San Joaquin County, CA

AGENCY: Bureau of Reclamation, Interior.

ACTION: Notice of availability of the final environmental impact report/environmental impact statement (Final EIR/EIS).

SUMMARY: Pursuant to the National Environmental Policy Act (NEPA) and the California Environmental Quality Act (CEQA), the Bureau of Reclamation (Reclamation), Woodbridge Irrigation District (WID), and the City of Lodi have prepared a joint final EIR/EIS for the Lower Mokelumne River Restoration Program (LMRRP). The LMRRP encompasses an area located in northern San Joaquin County along the lower Mokelumne River between Camanche Dam and the Mokelumne and Cosumnes Rivers. The Proposed Project comprises four elements: Improving fish passage at Woodbridge Dam, upgrading the fish screen at the WID diversion, placing screens on unscreened or underscreened riparian diversions on the Mokelumne River between Camanche Dam and the Cosumnes Rivers on a voluntary basis, and restoring riparian vegetation along the Mokelumne River. The final EIR/EIS describes and presents the environmental effects of the four elements of the program. The first two elements are addressed at a project level in this final EIR/EIS, including five fish passage alternatives and five optional fish passage actions. The remaining two elements are addressed at a programmatic level. The preferred alternative is to construct a new dam and new fish-passage facilities, and includes optional actions to improve predator control below the dam, move the WID diversion point to just upstream of the dam, and construct a downstream splash pool.

DATES: Reclamation will not make a decision on the proposed action until after Endangered Species Act (ESA) compliance has been completed. After ESA compliance has been completed, Reclamation will complete a Record of Decision (ROD). The ROD will state the action that will be implemented and will discuss all factors leading to the decision.

ADDRESSES: Copies of the final EIR/EIS may be requested from Mr. Anders Christensen, Woodbridge Irrigation District, 18777 N. Lower Sacramento Road, Woodbridge, California 95258, or Mr. Buford Holt, Bureau of Reclamation, 16349 Shasta Dam Boulevard, Shasta Lake, California 96019.

See Supplementary Information section for locations where copies of the final EIR/EIS are available for public inspection.

FOR FURTHER INFORMATION CONTACT: Mr. Buford Holt, Bureau of Reclamation, at (530) 275-1554; or Mr. Anders Christensen, Woodbridge Irrigation District, at (209) 369-6808.

SUPPLEMENTARY INFORMATION: The LMRRP was developed to implement important elements from resource management plans prepared by CALFED, USFWS, and DFG. The goal of the LMRRP is to substantially increase fall-run chinook salmon and steelhead populations, enhance critical and limiting aquatic habitats, and restore riparian ecosystem integrity and diversity. In addition to a No-Project Alternative, which involves the continued operation of the existing Woodbridge Dam and fish passage facilities, four action alternatives are examined, including: (1) Construct new fish passage facilities on the existing Woodbridge Dam; (2) construct a new Woodbridge Dam with operable weir gates and new fish passage facilities; (3) construct a new Woodbridge Dam with operable weir gates and new fish passage facilities, and diversion pumps; and (4) replace the existing Woodbridge Dam and pump water from the river. The final EIR/EIS considers the environmental effects of the five alternatives in all topical areas required under NEPA and CEQA. Of particular importance for this project are the following topics: Fisheries, water quality, vegetation and wetland resources, wildlife, recreation, and visual resources.

Notice of the draft environmental impact report/environmental impact statement was published in the Federal Register on November 3, 1999 (64 FR 0212). A public hearing was held on November 16, 1999. The written comment period closed on January 4, 2000. The final EIR/EIS contains responses to all comments received and changes made to the text of the draft EIR/EIS as a result of those comments.

Locations for Inspecting/Reviewing the Final EIR/EIS

Copies of the final EIR/EIS are available for public inspection and review at the following locations:

• Woodbridge Irrigation District Office, 18777 N. Lower Sacramento Road, Woodbridge, California 95258; telephone: (209) 369-6808

• Bureau of Reclamation, Program Analysis Office, Room 7456, 1849 C Street NW., Washington, DC 20240; telephone: (202) 208-4662

• Bureau of Reclamation, Denver Office Library, Building 67, Room 167, Denver Federal Center, 6th and Kipling, Denver CO 80225; telephone: (303) 445-2072

• Bureau of Reclamation, Regional Director, Attention: MP-140, 2800 Cottage Way, Sacramento CA 95825-1898; telephone: (916) 978-5100

• Natural Resources Library, U.S. Department of the Interior, Main Interior Building, 1849 C Street NW., Washington, DC 20240-0001

• Lodi Public Library, 201 W. Locust Street, Lodi, CA 95240-2099.

Dated: May 26, 2000.
Lester A. Snow,
Regional Director.

[FR Doc. 00-14744 Filed 6-9-00; 8:45 am]

BILLING CODE 4310-MN-P